DEPARTMENT OF ENERGY

Federal Energy Regulatory Commission

Combined Notice of Filings #2

Take notice that the Commission received the following electric rate filings:

Docket Numbers: ER10-1325-005; ER15-190-002; ER12-1958-005; ER12-1946-005; ER11-2080-005; ER10-2034-004; ER10-1335-005; ER10-1333-005.

Applicants: CinCap V LLC, Duke Energy Beckjord, LLC, Duke Energy Commercial Asset Management, Inc., Duke Energy Commercial Enterprises, Inc., Duke Energy Indiana, Inc., Duke Energy Piketon, LLC, Duke Energy Renewable Services, LLC, Duke Energy Retail Sales, LLC.

Description: Triennial Market Power Analysis Update for the Central Region of Duke Energy Corporation MBR Sellers.

Filed Date: 12/19/14.

Accession Number: 20141219-5448.

Comments Due: 5 p.m. ET 2/17/15.

Docket Numbers: ER15-282-000; ER15-314-000; ER15-308-000; ER15-306-000; ER15-305-000; ER15-304-000; ER15-293-000; ER15-292-000; ER15-289-000; ER15-288-000; ER15-287-000; ER15-286-000; ER15-285-000; ER15-284-000; ER15-283-000.

Applicants: Morgan Stanley Capital Group Inc. MS Solar Solutions Corp., Naniwa Energy LLC, Power Contract Financing II, Inc., Power Contract Financing II, L.L.C., South Eastern Electric Dev. Corp., South Eastern Generating Corp., Utility Contract Funding II, LLC, TAQA Gen X LLC, NaturEner Glacier Wind Energy 1, LLC, NaturEner Glacier Wind Energy 2, LLC, NaturEner Rim Rock Wind Energy, LLC, NaturEner Montana Wind Energy, LLC, NaturEner Power Watch, LLC, NaturEner Wind Watch, LLC.

Description: Supplement to October 31, 2014 and November 3, 2014 Morgan Stanley Capital Group Inc., et al. Notice of Change in Status and tariff filings.

Filed Date: 12/19/14.

Accession Number: 20141219-5447.

Comments Due: 5 p.m. ET 1/9/15.

Docket Numbers: ER15-693-000.

Applicants: Midcontinent Independent System Operator, Inc.

Description: § 205(d) rate filing per 35.13(a)(2)(iii): 2014-12-22_SA 2693 NSP-Black Oak Wind 1st Rev GIA (G858/H071) to be effective 12/23/2014.

Filed Date: 12/22/14.

Accession Number: 20141222-5195.

Comments Due: 5 p.m. ET 1/12/15.

Docket Numbers: ER15-694-000.

Applicants: Northern Indiana Public Service Company.

Description: § 205(d) rate filing per 35.13(a)(2)(iii): Amendments to Market-Based Rate Tariff to be effective 12/23/2014.

Filed Date: 12/22/14.

Accession Number: 20141222-5197.

Comments Due: 5 p.m. ET 1/12/15.

Docket Numbers: ER15-695-000.

Applicants: Southwest Power Pool, Inc.

Description: § 205(d) rate filing per 35.13(a)(2)(iii): Revisions to Attachment AE (MPL) Section 10.3—Dispute Clarification to be effective 3/1/2014.

Filed Date: 12/22/14.

Accession Number: 20141222-5220.

Comments Due: 5 p.m. ET 1/12/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2014.
Nathaniel J. Davis, Sr.,
Deputy Secretary.

[FR Doc. 2014-30623 Filed 12-30-14; 8:45 am]

BILLING CODE 6717-01-P